DEPARTMENT OF LABOR

Office of the Secretary

Memorandum of Succession for Executive Continuity

AGENCY: Office of the Secretary, Labor.

ACTION: Notice.

SUMMARY: On October 14, 2004, Secretary of Labor Elaine L. Chao, pursuant to Secretary's Order 4-2003 (68 FR 41048, July 9, 2003), and the authorities cited therein, issued a “Memorandum For Department of Labor Executive Staff” to provide lines of succession in case of absence, sickness, resignation, or death of agency heads and during periods of national emergency declared by the President and to provide for ongoing operational management of agency programs and personnel. The Secretary has directed that this Memorandum be published in the Federal Register, and a copy of the Memorandum is annexed hereto as an Appendix.

DATES: This notice is effective October 26, 2004.

FOR FURTHER INFORMATION CONTACT: Contact Edward C. Hugler, Deputy Assistant Secretary for Operations, tel. (202) 693-4040.

Signed in Washington, DC, this 20th day of October, 2004.
Patrick Pizzella,
Assistant Secretary of Labor for Administration and Management.

Memorandum for Department of Labor Executive Staff

From: Elaine L. Chao, Secretary of Labor.

Subject: To Provide for the Order of Succession for Executive Continuity.

October 14, 2004.

This memorandum is issued pursuant to Secretary's Order 4-2003 and the authorities cited therein, in order to provide lines of succession in case of absence, sickness, resignation, or death of agency heads and during periods of national emergency declared by the President and to provide for ongoing operational management of agency programs and personnel.

Functions and duties and ongoing operational management responsibilities of the officers of the Department whose appointment to office is required to be made by the President, by and with the advice and consent of the Senate (PAS), will be performed in an acting capacity by the below designated “first assistants,” unless and until the President makes an alternative designation under the Federal Vacancies Reform Act of 1998 (FVRA).¹ Functions and duties are those non-delegable responsibilities established by law (statute or regulation) and required to be performed by, and only by, the PAS.

¹ The first assistants are designated in the list that follows as the position designated immediately below the PAS or non-PAS agency head position title.

In the event that the first assistant does not serve or is barred from serving, unless and until the President makes an alternative designation under the FVRA, the person whose designation closest follows that of the first assistant shall perform the operational management of the agency. However, the functions and duties of the PAS may not be performed by any person other than the person serving in an acting capacity, in accord with FVRA (or, in the absence of an acting officer, by the Secretary pursuant to the FVRA).

The Office of the Chief Information Officer and the Bureau of International Labor Affairs, which are not covered by the statute, (because they are not headed by PAS positions) are included in this memorandum for the purpose of consolidating the presentation of the Department's program for establishing orderly internal succession in the event of vacancies.

This memorandum supersedes all prior inconsistent agency delegations. Agency Heads shall assure that agency delegations, position descriptions, and other pertinent documents are maintained consistently with the designations provided below. Any modifications to the Order of Succession specified in this memorandum are solely reserved to the Secretary.

This memorandum shall be published in the Federal Register and codified in the Department of Labor Manual Series. This memorandum is subject to periodic revision by the Secretary, as necessary, and is effective on the date indicated above.

Designation of Agency First Assistant ¹ and Order of Succession

A. PAS Positions Under the Secretary of Labor

Deputy Secretary of Labor

Designation to be made by Presidential direction, as provided in 5 U.S.C. 3345.

Solicitor of Labor

Deputy Solicitor

Deputy Solicitor for National Operations

Deputy Solicitor for Regional Operations

Assistant Secretary for Administration and Management

Deputy Assistant Secretary for Operations

Deputy Assistant Secretary for Budget and Performance Planning

Deputy Assistant Secretary for Security and Emergency Management

Assistant Secretary for the Employee Benefits Security Administration ²

Deputy Assistant Secretary for Policy

Deputy Assistant Secretary for Program Operations

Assistant Secretary for the Employment Standards Administration

Administrator of the Wage and Hour Division

Deputy Assistant Secretary

Deputy Assistant Secretary for Federal Contract Compliance

Deputy Assistant Secretary for Labor-Management Programs

Director, Office of Workers' Compensation Programs

Assistant Secretary for the Employment and Training Administration

Deputy Assistant Secretary for Employment and Training ³

Deputy Assistant Secretary for Employment and Training ⁴

Assistant Secretary for the Mine Safety and Health Administration

Deputy Assistant Secretary for Mine Safety and Health ⁵

Deputy Assistant Secretary for Mine Safety and Health ⁶

Assistant Secretary for the Occupational Safety and Health Administration

Deputy Assistant Secretary ⁷

Deputy Assistant Secretary

Assistant Secretary for the Office of the Assistant Secretary for Policy

Deputy Assistant Secretary ⁸

Deputy Assistant Secretary for Policy (Operations and Analysis)

Assistant Secretary for the Office of Congressional and Intergovernmental Affairs

Deputy Assistant Secretary for Congressional Affairs

Deputy Assistant Secretary for Intergovernmental Affairs

Assistant Secretary for the Office of Disability Employment Policy

Deputy Assistant Secretary

Director, Office of Operations

Assistant Secretary for the Office of Public Affairs

Deputy Assistant Secretary ⁹

Deputy Assistant Secretary ¹⁰

Deputy Assistant Secretary ¹¹

Assistant Secretary for the Veterans' Employment and Training Service

Deputy Assistant Secretary

Deputy Assistant Secretary for Operations and Management

Director of Operations and Programs

Director of the Women's Bureau

Deputy Director ¹²

Regional Office Coordinator

Administrator of the Wage and Hour Division

Deputy Wage and Hour Administrator

Commissioner of the Bureau of Labor Statistics

Deputy Commissioner

Chief Financial Officer

Deputy Chief Financial Officer

Inspector General

Deputy Inspector General

B. Non-PAS Agency Head Positions

Deputy Under Secretary for International Affairs of the Bureau of International Labor Affairs

Associate Deputy Under Secretary for Policy

Associate Deputy Under Secretary and Director of International Economic Affairs

Chief Information Officer

Deputy Chief Information Officer

____

¹ The first assistants are designated in italic font immediately below the PAS or Non-PAS position title.

² Described as Assistant Secretary of Labor in charge of the Pension and Welfare Benefits Administration in Executive Order 13245. This agency was renamed Employee Benefits Security Administration in Secretary's Order 1-2003.

³ This Deputy Assistant Secretary position is responsible for the formulation of policies and development of multi-year goals, objectives and strategies, among other responsibilities. Organizationally, the position is known as the Deputy Assistant Secretary for the Workforce Investment System.

⁴ This Deputy Assistant Secretary position is responsible for providing leadership and direction to ETA operations with specific direction provided to administrative and management systems and activities. Organizationally, this position is known as the Deputy Assistant Secretary for Performance and Administration.

⁵ This Deputy Assistant Secretary is responsible for the formulation of policies and development of multi-year goals, objectives, and strategies, among other responsibilities. Organizationally, the position is known as the Deputy Assistant Secretary for Policy.

⁶ This Deputy Assistant Secretary is responsible for the day-to-day management of internal operations, among other responsibilities. Organizationally, the position is known as the Deputy Assistant Secretary for Operations.

⁷ This Deputy Assistant Secretary position is responsible for Congressional and Intergovernmental liaison activity, among other responsibilities.

⁸ This Deputy Assistant Secretary serves as liaison to the Executive Office of the President to assure Departmental policies, goals, objectives and strategies reflect the Administration's positions.

⁹ This Deputy Assistant Secretary serves as the primary adviser to the Assistant Secretary and other DOL officials on public affairs aspects of policy and program development, among other responsibilities.

¹⁰ This Deputy Assistant Secretary develops marketing and public outreach campaigns for programs or issues and serves as the primary spokesperson for the Secretary and the Department, among other responsibilities.

¹¹ This Deputy Assistant Secretary serves as the principal career public affairs consultant to the Assistant Secretary and manages and directs the office's day-to-day public affairs activities, among other responsibilities.

¹² This position is first assistant, pursuant to 29 U.S.C. 14.

[FR Doc. 04-23947 Filed 10-25-04; 8:45 am]

BILLING CODE 4510-23-P